DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 72 FR 67308, dated November 28, 2007) is amended to reflect the reorganization of the Division of Healthcare Quality Promotion, National Center for Preparedness, Detection and Control of Infectious Diseases, Coordinating Center for Infectious Diseases, Centers for Disease Control and Prevention.

Section C-B, Organization and Functions, is hereby amended as follows: Delete in their entirety the functional statements for the Division of Healthcare Quality Promotion (CVKD), and insert the following:

Division of Healthcare Quality Promotion (CVKD). The mission of the Division of Healthcare Quality Promotion (DHQP) is to protect patients; protect healthcare personnel; and promote safety, quality, and value in both national and international healthcare delivery systems. In carrying out its mission, DHQP: (1) Measures, validates, interprets, and responds to data relevant to healthcare processes and outcomes, healthcare-associated infections, antimicrobial resistance, adverse drug events, and other related adverse events or medical errors in healthcare affecting patients and healthcare personnel; (2) investigates and responds to emerging infections and related adverse events among patients and healthcare providers, or others associated with the healthcare environment; (3) collaborates with academic and public health partners to design, develop, and evaluate the efficacy of interventions for preventing infections and reducing antimicrobial resistance, and related adverse events or medical errors; (4) develops and disseminates evidence-based guidelines and recommendations to prevent and control healthcare-associated infections/antimicrobial resistance, and related adverse events or medical errors; (5) promotes the nationwide implementation of Healthcare Infection Control Practices Advisory Committee (HICPAC) recommendations and other evidence-based interventions to prevent healthcare-associated infections, antimicrobial resistance, and related adverse events or medical errors among patients and healthcare personnel; evaluates the impact of these recommendations and interventions across the spectrum of healthcare delivery sites; (6) develops, implements, and evaluates the effectiveness and impact of interventions to prevent transmission of healthcare-associated human immunodeficiency virus (HIV) and other bloodborne pathogen infections; (7) develops and evaluates diagnostic instruments and novel laboratory tests to detect and characterize antimicrobial-resistant bacterial pathogens and the infections that they cause; (8) promotes high standards of water quality in healthcare settings and tests and assures the water quality for CCID laboratories; (9) conducts epidemiologic, and basic and applied laboratory research to identify new strategies to prevent infections/antimicrobial resistance, and related adverse events or medical errors, especially those associated with medical or surgical procedures, indwelling medical devices, contaminated products, dialysis, and water; (10) establishes evidence-based data for bioterrorism preparedness, and building and site remediation by performing laboratory research on surface sampling, detection of bacterial bioterrorist agents by non-culture methods, and rapid detection of antimicrobial resistance in category A and B bacterial bioterrorist agents; (11) serves as the National Reference Laboratory for the identification and antimicrobial susceptibility testing of staphylococci, anaerobic bacteria, and those gram-negative bacilli causing healthcare-associated infections; (12) develops and maintains the National Healthcare Safety Network (NHSN), a tool for monitoring healthcare-associated infections, for measuring healthcare outcomes and processes, and for monitoring healthcare worker vaccination and selected health measures in healthcare facilities; (13) continually assesses rates of infections caused by resistant-bacteria in the U.S. through active surveillance, review of national healthcare data sets, and laboratory surveillance programs; (14) promotes the integration of the healthcare delivery system in federal/state/local public health preparedness planning; (15) coordinates activities, guidance, and research related to infection control across the agency and with national and international partners; (16) collaborates with other CDC National Centers (NC) and partners to assure quality clinical microbiology laboratory practices through proficiency testing, educational programs, and training of personnel; (17) trains Epidemic Intelligence Service Officers and other trainees; (18) coordinates antimicrobial resistance activities at CDC; (19) represents CDC as co-chair of the federal Interagency Task Force on Antimicrobial Resistance; (20) works in a national leadership capacity with public and private organizations to enhance antimicrobial resistance prevention and control, surveillance and response, and applied research; (21) coordinates blood, organ, and other tissue safety at CDC; (22) represents CDC on the Advisory Committee on Blood Safety and Availability and the Advisory Committee on Organ Transplantation; and (23) works in a national leadership capacity with other public and private organizations to enhance blood, organ, and other tissue safety through coordination of investigation, prevention, response, surveillance, applied research, health communication, and public policy.

Office of the Director (CVDK1). (1) Manages, directs, and coordinates the activities of the DHQP: (2) provides leadership and guidance on policy, communications/media, program planning and development, program management, and operations; (3) provides DHQP-wide administrative and program services and coordinates or ensures coordination with the appropriate NC's and CDC staff offices on administrative and program matters; (4) provides liaison with other governmental agencies, international organizations, and other outside groups; (5) coordinates, in collaboration with the appropriate NC and CDC components, global health activities relating to the prevention of healthcare-associated infections/antimicrobial resistance, and related adverse events or medical errors; (6) coordinates activities, guidance, and research related to infection control across the agency and with national and international partners; (7) works with other federal agencies, state governments, medical societies, and other public and private organizations to promote collaboration and to integrate healthcare preparedness in federal/state/local public health preparedness planning; (8) develops and conducts healthcare preparedness exercises and drills; (9) leads and staffs the Healthcare Delivery and the Infection Control/Clinical Care functional seats in the CDC Director's Emergency Operations Center; (10) coordinates antimicrobial resistance activities at CDC and represents CDC as co-chair of the federal Interagency Task Force on Antimicrobial Resistance; (11) works with other agencies, state governments, medical societies, and other public and private organizations to enhance antimicrobial resistance prevention and control, surveillance and response, and applied research; (12) coordinates blood, organ, and other tissue safety at CDC and represents CDC on the Advisory Committee on Blood Safety and Availability and the Advisory Committee on Organ Transplantation; (13) works with other federal agencies, state governments, and other public and private organizations to enhance blood, organ, and other tissue safety through coordination of investigation, prevention, response, surveillance, applied research, health communication, and public policy; (14) provides program and administrative support for HICPAC; and (15) advises the Director, NCPDCID, on policy matters concerning DHQP activities.

Clinical and Environmental Microbiology Branch (CVKDB). (1) Collaborates with the Prevention and Response Branch to provide laboratory response to outbreaks and emerging threats associated with infections/antimicrobial resistance and related adverse events throughout the healthcare delivery system; (2) provides comprehensive laboratory support and expertise for investigations of recognized and emerging bacterial agents in healthcare settings; (3) develops methods to assess contamination of environmental surfaces with bacterial agents of bioterrorism, the effectiveness of various water treatment strategies to control the intentional introduction of agents of bioterrorism into municipal water systems, and develops molecular methods for rapid assessment of antimicrobial resistance in agents of bioterrorism; (4) investigates novel and emerging mechanisms of antimicrobial resistance among targeted pathogens found in healthcare settings; (5) detects the toxins/virulence factors of bacteria causing healthcare-associated infections to understand their transmission and pathogenicity; (6) conducts research in collaboration with partners to develop new, accurate methods of detecting antimicrobial resistance in bacteria and to improve reporting of antimicrobial susceptibility testing results to physicians to improve antimicrobial use; (7) conducts laboratory research to identify new strategies to prevent infections/antimicrobial resistance, related adverse events, and medical errors, especially those associated with invasive medical devices, contaminated products, dialysis, and water; (8) evaluates commercial microbial identification and antimicrobial susceptibility testing systems and products and facilitates their improvement to provide accurate patient test results; (9) provides leadership in reducing microbiology laboratory errors that affect patient outcomes by evaluating laboratory proficiency and promoting laboratory quality improvements; (10) investigates the role of biofilms, particularly those detected in indwelling medical devices and medical water systems, in medicine and public health, and identifies novel methods to eliminate colonization and biofilm formation on foreign bodies; (11) investigates the role of the water distribution systems in healthcare facilities in order to understand and prevent waterborne healthcare-associated infections; (12) provides expertise, research opportunity, training, and laboratory support for investigations of infections and related adverse events to those in other CDC NCs and to our partners in areas related to quality clinical microbiology laboratory practices, investigation of emerging pathogens, environmental microbiology and bioterrorism preparedness.

Prevention and Response Branch (CVKDC). (1) Coordinates rapid and effective epidemiologic response to strategically selected outbreaks and emerging threats caused by healthcare-associated infections, related adverse healthcare events, related infections in the community, and antimicrobial resistance; communicates the results and findings of response activities with federal and state agencies in order to alert healthcare providers and educate the public to prevent similar adverse events in the future; (2) strategically supports local, state, national, and international efforts to prevent healthcare-associated infections, related infections in the community, antimicrobial resistance, and related adverse events or medical errors using evidence-based recommendations and effective health communications strategies that enhance rapid and reliable information dissemination and exchange; (3) develops and/or evaluates the effectiveness of both experimental and applied interventions to prevent healthcare-associated infections, related infections in the community, antimicrobial resistance, blood-borne virus transmission, and related adverse events or medical errors across the spectrum of healthcare delivery sites; (4) provides epidemiology support to laboratory branch for investigation and study of both recognized and emerging bacterial healthcare pathogens and related community pathogens, including antimicrobial resistant forms of these pathogens; (5) develops, promotes, and monitors implementation of guidelines/recommendations, and other proven interventions to prevent healthcare-associated infections, related infections in the community, blood-borne virus transmission, antimicrobial resistance, medical errors, and occupational infections/exposures among healthcare personnel; (6) develops and/or evaluates the effectiveness of both experimental and applied interventions to promote healthcare worker safety; (7) develops, promotes, and monitors implementation of interventions to prevent transmission of healthcare-associated HIV infections and conducts case investigations of occupational HIV infections; (8) conducts research, including applied epidemiologic and clinical, to prevent healthcare-associated infections and antimicrobial resistant infections; (9) provides expert consultation, guidance, and technical support to other branches in the division, across the agency, to domestic and international partners, and the U.S. public on the epidemiology and prevention of healthcare-associated infections, related community infections, antimicrobial resistance, and exposures/injuries among healthcare personnel; and (10) provides epidemiology support to clinical and environmental microbiology branch to identify new strategies to prevent adverse events due to infections associated with indwelling medical devices, contaminated products, dialysis, and water.

Surveillance Branch (CVKDD). (1) Monitors and evaluates on the national level the extent, distribution, and impact of healthcare-associated infections, antimicrobial use and resistance, adverse drug events, healthcare worker safety events, and adherence to clinical processes and intervention programs designed to prevent or control adverse exposures or outcomes in healthcare; (2) provides leadership and consultative services for statistical methods and analysis to investigators in the Branch, Division, and other organizations responsible for surveillance, research studies, and prevention and control of healthcare-associated infections and other healthcare-associated adverse events; (3) improves methods and enables wider use of clinical performance measurements by healthcare facilities and public health entities for specific interventions and prevention strategies designed to safeguard patients and healthcare workers from risk exposures and adverse outcomes through collaborations with extramural partners; (4) collaborates with public and private sector partners to further standardize, integrate, and streamline systems by which healthcare organizations collect, manage, analyze, report, and respond to data on clinical guideline adherence, healthcare-associated infections, including transmission of multi-drug-resistant organisms and other healthcare-associated adverse events; (5) coordinates, further develops, enables wider use, and maintains the NHSN, (a web-based system for healthcare facilities throughout the U.S. to collect and analyze their own data and share data with DHQP and other organizations on healthcare-associated adverse events and process-of-care measures) to obtain scientifically valid clinical performance indices and benchmarks that promote healthcare quality and value at the facility, state, and national levels; (6) conducts applied research to identify and develop innovative methods to detect and monitor healthcare-associated infections and antimicrobial resistance; (7) conducts special studies and provides national estimates of targeted, healthcare-associated adverse events, antimicrobial use and resistance patterns, and the extent to which prevention and control safeguards are in use to protect at-risk patients across the spectrum of healthcare delivery sites; and (8) uses NHSN and other data sources to conduct special studies and provide national estimates of targeted occupational illnesses and injuries among healthcare workers and the extent to which preventive safeguards are in use across the spectrum of healthcare delivery sites.

Dated: December 13, 2007.
William H. Gimson,
Chief Operating Officer, Centers for Disease Control and Prevention.

[FR Doc. 07-6130 Filed 12-21-07; 8:45 am]

BILLING CODE 4160-18-M